DEPARTMENT OF HEALTH AND HUMAN SERVICES

National Committee on Vital and Health Statistics; Meeting

Pursuant to the Federal Advisory Committee Act, the Department of Health and Human Services (HHS) announces the following advisory committee meeting.

Name: National Committee on Vital and Health Statistics (NCVHS) Standards Subcommittee.

Time and Date: February 24, 2008 9 a.m.-5 p.m.

Place: Hubert Humphrey Building, 200 Independence Ave, SW., Room 505A, Washington, DC 20201.

Status: Open.

Purpose: The purpose of this meeting is to gather a better understanding of the issues, requirements, and plans to modify HIT standards processes to meet the needs of health care, personal health, and population health, as all of these health environments move rapidly into the information age. This meeting will be the first of several meetings on this topic that will be scheduled during 2009 by the Standards Subcommittee of the NCVHS.

For More Information Contact: Substantive program information as well as summaries of meetings and a roster of committee members may be obtained from Denise Buenning, lead staff for Standards Subcommittee, NCVHS, Centers for Medicare and Medicaid Services, Office of E-Health Standards and Services, 7500 Security Boulevard, Room S2-26-17, Baltimore, Maryland, 21244, telephone (410) 786-6711 or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: January 12, 2009.
James Scanlon,
Deputy Assistant Secretary for Science and Data Policy, Office of the Assistant Secretary for Planning and Evaluation.

[FR Doc. E9-1450 Filed 1-23-09; 8:45 am]

BILLING CODE 4151-05-P